DEPARTMENT OF COMMERCE

International Trade Administration

[A-570-848]

Freshwater Crawfish Tail Meat From the People's Republic of China: Rescission of Antidumping Duty New Shipper Review

AGENCY: Import Administration, International Trade Administration, Department of Commerce.

SUMMARY: On November 1, 2002 the Department published the initiation of the four new shipper reviews of the antidumping duty order on freshwater crawfish tail meat from the People's Republic of China covering the period September 1, 2001, through August 31, 2002. These new shipper reviews covered four exporters: Zhoushan Huading Seafood Co., Ltd.; Hubei Qianjiang Houhu Frozen & Processing Factory; Qingdao Jin Yong Xiang Aquatic Foods Co., Ltd.; and Siyang Foreign Trading Corporation (Siyang). See Freshwater Crawfish Tail Meat From the People's Republic of China: Initiation of Antidumping New Shipper Reviews (67 FR 67822) (New Shipper Initiation). For the reasons discussed below, we are rescinding the review of Siyang.

EFFECTIVE DATE: June 23, 2003.

FOR FURTHER INFORMATION CONTACT: Sean Carey or Dana Mermelstein at (202) 482-3964 and (202) 482-1391, respectively; AD/CVD Enforcement, Office 7, Group III, Import Administration, International Trade Administration, U.S. Department of Commerce, 14th Street and Constitution Avenue, NW., Washington, DC 20230.

SUPPLEMENTARY INFORMATION:

Background

On September 30, 2002 the Department received a timely request for a new shipper review of the antidumping duty order on freshwater crawfish tail meat from the PRC from Siyang, an exporter of subject merchandise to the United States. In this request, Siyang identified Anhui Golden Bird Agricultural Products Development Co., Ltd. (Golden Bird) as the producer who supplied the subject merchandise to Siyang. Pursuant to section 351.214(b)(2)(ii)(B) of the Department's regulations, Siyang included, in addition to its own certifications, a certification from the general manager of Golden Bird stating that Golden Bird was the producer and certifying that Golden Bird did not export subject merchandise during the period of investigation (POI). Furthermore, pursuant to sections 351.214(b)(2)(iii)(A) and (B) of the Department's regulations, Golden Bird also certified that it had never been affiliated with any other producer or exporter of subject merchandise to the United States during the POI, and that its activities are not controlled by the PRC central government. On November 1, 2002, the Department initiated this new shipper review covering the period September 1, 2001 through August 31, 2002. See New Shipper Initiation.

Siyang provided responses to the Department's original and supplemental questionnaires on January 6, and April 3, 2003, respectively. In a letter dated March 27, 2003, Siyang informed the Department that the correct company name of its producer of subject merchandise is Anhui Golden Bird Agricultural & Side-Line Products Development Co., Ltd., and noted that the words “& Side-Line” were inadvertently missing from the name of the producer that was used in previous submissions. In the Department's memorandum to the file entitled Siyang Foreign Trade Corporation's New Shipper Review of Freshwater Crawfish Tail Meat from the People's Republic of China: Intent to Rescind New Shipper Review (Intent to Rescind Memo), dated May 19, 2003, we stated our intention to rescind Siyang's new shipper review because the initiation of this new shipper review was not based on complete and accurate information, thereby impairing the Department's ability to properly analyze and investigate certain information contained in Siyang's request for new shipper review. See Intent to Rescind Memo at 2.

On May 22, 2003, the Domestic Interested Parties ¹ submitted a letter to the Department requesting that Siyang's new shipper review be rescinded as soon as possible in order to prevent further shipments of subject merchandise to the United States from entering under bond using the Siyang/Golden Bird exporter/producer combination antidumping duty rate. This letter also requested the Department to notify the U.S. Bureau of Customs and Border Protection (Customs) forthwith of this action in order to prevent circumvention of the order by allowing shipments to enter under bond for a lengthy period of time.

¹ The term “Domestic Interested Parties” refers collectively to the following: the Crawfish Processors Alliance and its members as listed in the December 4, 2002 Application for Administrative Protective Order; the Louisiana Department of Agriculture and Forestry; and, Bob Odom, Commissioner.

Rescission of Review

Siyang did not provide the Department with the correct certifications required under section 351.214(b)(2) of the Department's regulations for a new shipper review. Specifically, section 351.214(b)(2)(ii)(B) of the Department's regulations states that, if the company requesting the review is the exporter but not the producer of the subject merchandise, then the request from this company must contain a certification stating that the producer did not export subject merchandise to the United States during the POI. In addition, section 351.214(b)(2)(iii)(A) of the Department's regulations requires that the request for the new shipper review contain a certification that the producer has never been affiliated with any exporter or producer that exported subject merchandise to the United States during the POI. Moreover, section 351.214(b)(2)(iii)(B) of the Department's regulations further specifies that in an antidumping proceeding involving imports from a nonmarket economy country, the request for a new shipper review must also contain a certification that the export activities of the exporter or producer are not controlled by the central government.

As noted above, Siyang failed to identify the correct name of the producer of the subject merchandise for purposes of its required certifications. Furthermore, an official of Golden Bird submitted certifications that did not accurately identify the company's name. Therefore, we find it appropriate to rescind Siyang's new shipper review based on its failure to provide the proper certifications pursuant to 19 CFR 351.214(b)(2).

Notification

The Department will notify Customs that bonding is no longer permitted to fulfill security requirements for shipments using the Siyang/Golden Bird exporter/producer combination antidumping duty rate for freshwater crawfish tail meat from the PRC entered, or withdrawn from warehouse, for consumption in the United States on or after the publication of this rescission notice in the Federal Register, and that a cash deposit of 223.01 percent ad valorem should be collected for any entries exported by Siyang.

This notice also serves as the only reminder to parties subject to administrative protective orders (APO) of their responsibility concerning the disposition of proprietary information disclosed under APO in accordance with 19 CFR 351.305(a)(3). Timely written notification of the return/destruction of APO material or conversion to judicial protective order is hereby requested. Failure to comply with the regulations and terms of an APO is a violation which is subject to sanctions.

We are issuing and publishing this determination and notice in accordance with sections 751(a)(2)(B) and 777(i) of the Act.

Dated: June 16, 2003.
Joseph A. Spetrini,
Acting Assistant Secretary for Import Administration.

[FR Doc. 03-15796 Filed 6-20-03; 8:45 am]

BILLING CODE 3510-DS-P